DEPARTMENT OF JUSTICE

National Institute of Corrections

Advisory Board Meeting

Time and Date: 8:30 a.m. to 4:30 p.m. on Monday, June 3, 2002 & 8:30 a.m. to 12 noon on Tuesday, June 4, 2002.

Place: The Churchill Hotel, 1914 Connecticut Avenue, NW., Washington, DC 20009.

Status: Open.

Matters to be Considered: Division reports: NIC Information Center presentation on state corrections agency budget cuts in Fiscal Year 2002; discussion on Board members' travel; Quarterly Report by Office of Justice Programs; and update on Interstate Compact activities.

FOR MORE INFORMATION CONTACT: Larry Solomon, Deputy Director, 202-307-3106, ext. 44254.

Morris L. Thigpen,
Director.

[FR Doc. 02-9908 Filed 4-22-02; 8:45 am]

BILLING CODE 4410-36-M